DEPARTMENT OF AGRICULTURE

Rural Utilities Service

South Texas Electric Cooperative, Inc.; Notice of Intent to Hold A Public Workshop and Prepare An Environmental Assessment

AGENCY: Rural Utilities Service, USDA.

ACTION: Notice of intent to hold a public workshop and prepare an environmental assessment.

SUMMARY: The Rural Utilities Service (RUS) intends to hold a public scoping meeting/workshop and prepare an environmental assessment (EA) in connection with possible impacts related to the construction and operation of a combined cycle combustion turbine generation facility. The project is proposed by South Texas Electric Cooperative (STEC), of Nursery, Texas and Medina Electric Cooperative, Inc., of Victoria, Texas. RUS may provide financing assistance for the project. RUS will conduct a public scoping meeting/workshop at the Sam Rayburn Generating Plant Pavilion, which is located three miles west of Nursery, Texas on FM 447. The meeting/workshop will be held on Wednesday, December 6, 2000, from 6:00 p.m. until 8:00 p.m.

FOR FUTHER INFORMATION CONTACT: Dennis E. Rankin, Environmental Protection Specialist, RUS, Engineering and Environmental Staff, Stop 1571, 1400 Independence Avenue, SW, Washington, DC 20250-1571, telephone: (202) 720-1953 or e-mail: or Joe Araiza, Project Manager, Burns and McDonnell, 1776 Yorktown, Suite 840, Houston, Texas 77056, telephone: (713) 622-0224 or e-mail: jaraiza@burnsmcd.com.

SUPPLEMENTARY INFORMATION: STEC and Medina are proposing to construct a 3-on-1 LM6000 combined-cycle combustion turbine 186 MW generation plant available for commercial dispatch in January 2003. The preferred site is the existing Sam Rayburn Plant, which is located in Nursery, Texas. The existing plant infrastructure will be utilized for this new generation addition including existing gas lines, cooling water ponds and switchyard.

Alternatives to be considered by RUS include no action, load management and energy conservation, purchase power, alternative generators and alternative sites.

Comments regarding the proposed project may be submitted in writing at the public meeting/workshop or in writing no later than January 5, 2001, to RUS at the address provided above.

An environmental assessment (EA) will be prepared for the proposed project. Based on a review of the Environmental Assessment and other relevant information, RUS will determine if the preparation of an environmental impact statement is necessary. Should RUS determine that the preparation of an environmental impact statement is not necessary, it will prepare a Finding of No Significant Impact.

Any final action by RUS related to the proposed project will be subject to, and contingent upon, compliance with all relevant Federal, State and local environmental laws and regulations and completion of the environmental review procedures as prescribed by RUS's Environmental Policies and Procedures.

Dated: November 13, 2000.
Glendon D. Deal,
Acting Director, Engineering and Environmental Staff.

[FR Doc. 00-29483 Filed 11-16-00; 8:45 am]

BILLING CODE 3410-15-P